DEPARTMENT OF STATE

[Public Notice 9601]

In the Matter of the Designation of Yarmouk Martyrs Brigade, aka Katibah Shuhada' al-Yarmouk, aka Liwa' Shuhada' al-Yarmouk, aka Yarmouk Brigade, aka Brigade of the Yarmouk Martyrs, aka Martyrs of Yarmouk, aka Al Yarmuk Brigade, aka Shuhda al-Yarmouk, aka Shohadaa al-Yarmouk Brigade, aka Suhada'a al-Yarmouk Brigade, aka Shuhada al Yarmouk Brigade, aka YMB, aka LSY as a Specially Designated Global Terrorist

Acting under the authority of and in accordance with section 1(b) of Executive Order 13224 of September 23, 2001, as amended by Executive Order13268 of July 2, 2002, and Executive Order 13284 of January 23, 2003, I hereby determine that the entity known as Yarmouk Martyrs Brigade, also known as Katibah Shuhada' al-Yarmouk, also known as Liwa' Shuhada' al-Yarmouk, also known as Yarmouk Brigade, also known as Brigade of the Yarmouk Martyrs, also known as Martyrs of Yarmouk, also known as Al Yarmuk Brigade, also known as Shuhda al-Yarmouk, also known as Shohadaa al-Yarmouk Brigade, also known as Suhada'a al-Yarmouk Brigade, also known as Shuhada al Yarmouk Brigade, also known as YMB, also known as LSY committed, or poses a significant risk of committing, acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: May 31, 2016.
John F. Kerry,
Secretary of State.

[FR Doc. 2016-13676 Filed 6-9-16; 8:45 am]

BILLING CODE 4710-AD-P